DEPARTMENT OF JUSTICE

[OMB Number 1125-0012]

Agency Information Collection Activities; Proposed Collection; Comments Requested; Extension of a Previously Approved Collection; Request for New Recognition, Renewal of Recognition, Extension of Recognition of a Non-Profit Religious, Charitable, Social Service, or Similar Organization (Form EOIR-31)

AGENCY: Executive Office for Immigration Review, Department of Justice.

ACTION: 60-Day notice.

SUMMARY: The Executive Office for Immigration Review (EOIR), Department of Justice (DOJ), will be submitting the following information collection request to the Office of Management and Budget (OMB) for review and approval in accordance with the Paperwork Reduction Act of 1995.

DATES: Comments are encouraged and will be accepted for 60 days until May 13, 2025.

FOR FURTHER INFORMATION CONTACT: If you have additional comments especially on the estimated public burden or associated response time, suggestions, or need a copy of the proposed information collection instrument with instructions or additional information, please contact Laeticia Mukala-Nirere, Attorney Advisor, Office of the General Counsel, Executive Office for Immigration Review, 5107 Leesburg Pike, Suite 2600, Falls Church, VA 22041, telephone: (703) 305-0470, EOIR.PRA.Comments@usdoj.gov or Kabina.L.Mukala-Nirere@usdoj.gov.

SUPPLEMENTARY INFORMATION: Written comments and suggestions from the public and affected agencies concerning the proposed collection of information are encouraged. Your comments should address one or more of the following four points:

—Evaluate whether the proposed collection of information is necessary for the proper performance of the functions of EOIR, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Regulations prescribe who may represent individuals in immigration proceedings. The Assistant Director for Policy (or the Assistant Director for Policy's delegate), in the exercise of discretion, may accord recognition to organizations to practice before EOIR and the Department of Homeland Security (DHS). See 8 CFR 1292.11, 1292.13(a). To be eligible for initial recognition, an organization must: (1) establish that it is a non-profit religious, charitable, social service, or similar organization; (2) demonstrate that it provides immigration legal services primarily to low-income and indigent clients within the United States; (3) demonstrate the organization's currently valid federal tax-exempt status or pending application for federal tax-exempt status; (4) apply simultaneously to have at least one employee or volunteer approved as an Accredited Representative (using Form EOIR-31A); (5) demonstrate access to adequate knowledge, information, and experience in immigration law and procedure; and (6) designate at least one authorized officer to act on the organization's behalf. 8 CFR 1292.11(a), (d). The organization applies for recognition by submitting a Form EOIR-31 to the Assistant Director for Policy (or the Assistant Director for Policy's delegate) along with proof that they have served a copy of Form EOIR-31 on the U.S. Citizenship and Immigration Services (USCIS) offices in the jurisdictions where the organization offers or intends to offer immigration legal services. See 8 CFR 1292.13(a).

Overview of This Information Collection

1. Type of Information Collection: Renewal with change of a currently approved collection. EOIR has made non-substantive changes to the current Form EOIR-31. These changes include revisions to the form's Privacy Act notice; addition of the expiration date for OMB approval on the form; updates to the address to which applications can be submitted; and addition of an alternative method by which applications can be submitted.

2. The Title of the Form/Collection: Request for New Recognition, Renewal of Recognition, Extension of Recognition of a Non-profit Religious, Charitable, Social Service, or Similar Organization.

3. The agency form number, if any, and the applicable component of the Department sponsoring the collection: the form number is EOIR-31, and the sponsoring component is Executive Office for Immigration Review, United States Department of Justice.

4. Affected public who will be asked or required to respond, as well as a brief abstract: Primary: Non-profit organizations seeking initial recognition, renewal of recognition, or extension of recognition to be recognized as legal service providers by the Office of Legal Access Programs of the Executive Office for Immigration Review (EOIR). Other: None. Abstract: This information collection will allow an organization to request and renew recognition of the organization to appear before EOIR and/or the Department of Homeland Security, or to extend recognition from a designated office to its other locations. This information collection is necessary to determine whether an organization meets the eligibility requirements for recognition pursuant to 8 U.S.C. 1103, 1229a, 1362 and 8 CFR 1292.11-19. Requests can be made using a fillable .pdf application or electronic submission.

5. An estimate of the total number of respondents and the amount of time estimated for an average respondent to respond: It is estimated that 210 respondents will complete the form annually for initial recognition with an average of 2 hours per response. It is estimated that 90 respondents will complete the form annually for renewal of recognition with an average of 7 hours per response. It is estimated that 20 respondents will complete the form annually for standalone extension office requests with an average of 2 hours per response.

6. An estimate of the total annual burden (in hours) associated with the collection: The estimated annual burden hours associated with this collection is 1,055 hours.

7. An estimate of the total annual cost burden associated with the collection, if applicable:

Total Burden Hours—Initial Recognition
Activity | Number of respondents | Frequency (annually) | Total annual responses | Time per response (hours) | Total annual burden (hours)
Title | 210 | 1 | 210 | 2 | 420
Unduplicated Totals |  |  |  |  |

Total Burden Hours—Renewal of Recognition
Activity | Number of respondents | Frequency (annually) | Total annual responses | Time per response (hours) | Total annual burden (hours)
Title | 90 | 1 | 90 | 7 | 630
Unduplicated Totals |  |  |  |  |

Total Burden Hours—Standalone Extension Office Requests
Activity | Number of respondents | Frequency (annually) | Total annual responses | Time per response (hours) | Total annual burden (hours)
Title | 20 | 1 | 20 | 2 | 40
Unduplicated Totals |  |  |  |  |

If additional information is required contact: Darwin Arceo, Department Clearance Officer, United States Department of Justice, Justice Management Division, Policy and Planning Staff, Two Constitution Square, 145 N Street NE, 4W-218, Washington, DC.

Dated: March 11, 2025.
Darwin Arceo,
Department Clearance Officer for PRA, U.S. Department of Justice.

[FR Doc. 2025-04127 Filed 3-13-25; 8:45 am]

BILLING CODE 4410-30-P